DEPARTMENT OF JUSTICE

Notice of Lodging of Proposed Consent Decree Under the Oil Pollution Act of 1990 and the Clean Water Act

On February 12, 2013, the Department of Justice lodged a proposed consent decree with the United States District Court for the District of Kansas in the lawsuit entitled United States v. Coffeyville Resources Refining & Marketing L.L.C., Civil Action No. 11-CV-1291-JTM-JPO.

The United States of America, on behalf of the United States Environmental Protection Agency (EPA) and the United States Coast Guard, filed a Complaint in this action asserting the following claims against Defendant Coffeyville Resources Refining & Marketing, L.L.C. (“CRRM” or “:Defendant”) that included claims (1) for penalties and injunctive relief under Sections 301 and 311 of the Clean Water Act (“CWA”), 33 U.S.C. 1311, 1321, relating to a June 30 and July 1, 2007 discharge of approximately 2,145 barrels of crude oil, diesel fuel, and oily water from several sources within CRRM's Coffeyville, Kansas petroleum Refinery; and (2) for reimbursement of removal costs, interest, administrative costs and attorneys' fees under Section 1002(a) of the Oil Pollution Act of 1990 (“OPA”), 33 U.S.C. 2702(a), incurred by the United States Oil Spill Liability Trust Fund (“OSLTF”) in responding to the 2007 oil discharge.

The proposed Consent Decree settles these claims. Under the settlement, CRRM will undertake measures designed to prevent future oil discharges and pay a penalty of $566,244. It will also reimburse the OSLTF $1,746,256 in response costs incurred with respect to the 2007 discharge.

The publication of this notice opens a period for public comment on the Consent Decree. Comments should be addressed to the Assistant Attorney General, Environment and Natural Resources Division, and should refer to United States v. Coffeyville Resources Refining & Marketing L.L.C., D.J. Ref. No. 90-5-2-1-07459/4. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $8.25 (25 cents per page reproduction cost) payable to the United States Treasury.

Robert E. Maher, Jr.,
Assistant Section Chief, Environmental Enforcement Section, Environment and Natural Resources Division.

[FR Doc. 2013-03675 Filed 2-15-13; 8:45 am]

BILLING CODE 4410-15-P